DEPARTMENT OF ENERGY

Federal Energy Regulatory Commission

[Docket Nos. RP00-495-005, RP01-97-004, and RP03-211-001]

Texas Gas Transmission, LLC formerly Texas Gas Transmission Corporation; Notice of Compliance

June 5, 2003.

Take notice that on June 2, 2003, Texas Gas Transmission, LLC (Texas Gas), formerly Texas Gas Transmission Corporation, tendered for filing as part of its FERC Gas Tariff, First Revised Volume No. 1, the tariff sheets listed below:

Effective June 1, 2003 First Revised Sheet No. 12B

Effective July 1, 2003

Second Revised Sheet No. 55

Second Revised Sheet No. 56

Third Revised Sheet No. 57

Third Revised Sheet No. 71

Third Revised Sheet No. 72

Second Revised Sheet No. 80C

Second Revised Sheet No. 80D

Second Revised Sheet No. 91

Third Revised Sheet No. 92

Second Revised Sheet No. 99H

Second Revised Sheet No. 99I

First Revised Sheet No. 99J

First Revised Sheet No. 99W

First Revised Sheet No. 99X

Second Revised Sheet No. 107

Second Revised Sheet No. 237

First Revised Sheet No. 238

Sheet No. 239

Texas Gas states that the tariff sheets are being filed in compliance with the Commission's May 22, 2003, Order on Compliance Filings (103 FERC ¶ 61,218), which conditionally accepted Texas Gas's previously filed tariff sheets and directed Texas Gas to file revised tariff sheets within 10 days of that Order to address issues discussed within the Order itself.

Texas Gas states that copies of the tariff sheets are being mailed to all parties in this docket, on Texas Gas's official service list, and to Texas Gas's jurisdictional customers and to interested state commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 16, 2003.

Magalie R. Salas,
Secretary.

[FR Doc. 03-14759 Filed 6-10-03; 8:45 am]

BILLING CODE 6717-01-P